DEPARTMENT OF THE INTERIOR

Bureau of Land Management

[ID-080-1030-PH]

Notice of Public Meeting, Upper Columbia-Salmon Clearwater Resource Advisory Council Meeting; Idaho

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Upper Columbia-Salmon Clearwater (UCSC) District Resource Advisory Council (RAC) will meet as indicated below.

DATES: September 4, 2003 beginning at 8 a.m. Pacific Daylight Time and end at approximately 12:01 p.m. The public comment period will be from 11 a.m. to 12:01 p.m. The meeting will be held via conference call from the following Idaho BLM Offices:

• Coeur d'Alene—located at 1808 N. Third Street

• Salmon—located at 50 Highway 93 South

• Challis—located at 801 Blue Mountain Road

• Cottonwood—located at House 1, Butte Drive

RAC members may call from any location and participate in the conference call. The public may join in the conference call from any of the four locations listed above.

FOR FURTHER INFORMATION CONTACT: Stephanie Snook, RAC Coordinator, BLM UCSC District, 1808 N. Third Street, Coeur d'Alene, Idaho 83814 or telephone (208) 769-5004.

SUPPLEMENTARY INFORMATION: The 15-member Council advises the Secretary of the Interior, through the Bureau of Land Management, on a variety of planning and management issues associated with public land management in Idaho. The following topics will be discussed during the September 4th conference call:

• Sustaining Working Landscapes policy

• Idaho BLM Organization Refinement

• Status of RAC Nominations and review and approval of minutes from previous meetings

All meetings are open to the public. The public may present written comments to the Council at the Coeur d'Alene, Salmon, Challis or Cottonwood locations during the public comment period. Depending on the number of persons wishing to comment and time available, the time for individual oral comments may be limited. Individuals who plan to attend and need special assistance, such as sign language interpretation or other reasonable accommodations, should contact the BLM as provided above.

Dated: July 25, 2003.
Fritz U. Rennebaum,
District Manager.

[FR Doc. 03-19479 Filed 7-30-03; 8:45 am]

BILLING CODE 4310-GG-P